ENVIRONMENTAL PROTECTION AGENCY

[EPA-HQ-OAR-2004-0082; FRL-9925-61-OAR]; [EPA ICR No. 1736.07, OMB Control No. 2060.0328]

Agency Information Collection Activities; Submission to OMB for Review and Approval; Comment Request; Reporting and Recordkeeping Requirements Under EPA's Natural Gas STAR Program

AGENCY: Environmental Protection Agency (EPA).

ACTION: Notice.

SUMMARY: The Environmental Protection Agency is planning to submit an information collection request (ICR), “Reporting and Recordkeeping Requirements Under EPA's Natural Gas STAR Program” (EPA ICR No. 1736.07, OMB Control No. 2060.0328) to the Office of Management and Budget (OMB) for review and approval in accordance with the Paperwork Reduction Act (44 U.S.C. 3501 et seq.). Before doing so, EPA is soliciting public comments on specific aspects of the proposed information collection as described below. This is a proposed extension of the ICR, which is currently approved through September 30, 2015. An Agency may not conduct or sponsor and a person is not required to respond to a collection of information unless it displays a currently valid OMB control number.

DATES: Comments must be submitted on or before June 1, 2015.

ADDRESSES: Submit your comments, referencing Docket ID No. EPA-HQ-OAR-2004-0082, online using www.regulations.gov (our preferred method), by email to a-and-r-Docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Jerome Blackman, Office of Atmospheric Programs, Climate Change Division, (6207A), Environmental Protection Agency, 1200 Pennsylvania Ave. NW., Washington, DC 20460; telephone number: 202-343-9630; fax number: 202-343-2342; email address: Blackman.Jerome@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: Natural Gas STAR is a voluntary program sponsored by the U.S. Environmental Protection Agency (EPA) that encourages oil and natural gas companies to adopt cost effective technologies and practice that improve operational efficiency and reduce methane emissions. Methane is the primary component of natural gas and a potent greenhouse gas. The Program works with oil and natural gas companies in the production, gathering & processing, transmission, and distribution sectors to remove barriers that inhibit the implementation of technologies and practices that reduce methane emissions. The Program effectively promotes the adoption of emission reduction technologies and practices by helping Natural Gas Star partners evaluate Best Management Practices (BMPs) and Partner Reported Opportunities (PROs) in the context of their current operations, and implement them where cost effective. Implementation of the Program's BMPs and PROs saves participants money, improves operational efficiency, and enhances the protection of the environment.

Form Numbers

Natural Gas STAR partners are required to sign and submit to EPA a one-page Memorandum of Understanding (MOU) that describes the terms of participation in the Program. The MOU forms covered under this ICR include:

• Production Partners: EPA Form No. 5900-105

• Transmission Partners: EPA Form No. 5900-96

• Distribution Partners: EPA Form No. 5900-98

• Gathering and Processing Partners: EPA Form No. 5900-101

• International Partners: EPA Form No. 5900-108

Partners must complete and submit a Natural Gas STAR Implementation Plan within six to twelve months of signing the MOU. The Implementation Plan forms covered under this ICR include:

• Production Partners: EPA Form No. 5900-103

• Transmission Partners: EPA Form No. 5900-109

• Distribution Partners: EPA Form No. 5900-97

• Gathering and Processing Partners: EPA Form No. 5900-100

• International Partners: EPA Form No. 5900-106

After one full year of participation in the Program, EPA requires partners to submit an annual report documenting the previous year's methane emission reduction activities. The annual reporting forms covered under this ICR include:

• Production Partners: EPA Form No. 5900-104

• Transmission Partners: EPA Form No. 5900-95

• Distribution Partners: EPA Form No. 5900-99

• Gathering and Processing Partners: EPA Form No. 5900-102

• International Partners: EPA Form No. 5900-107

Respondents/affected entities: The gathering and processing, production, transmission, and distribution sectors of the natural gas industry.

Respondent's obligation to respond: voluntary

Estimated number of respondents: 109 (total).

Frequency of response: 109.

Total estimated burden: 5,201 hours (per year). Burden is defined at 5 CFR 1320.03(b)

Total estimated cost: $477,657, includes $0 annualized capital or O&M costs.

Changes in Estimates: EPA expects that the burden associated with the final ICR submission will decrease slightly due to the Program's maturity and a decrease in number of new Program partners.

Dated: March 20, 2015.
Paul Gunning,
Director, Climate Change Division.

[FR Doc. 2015-07630 Filed 4-1-15; 8:45 am]

BILLING CODE CODE 6560-50-P